DEPARTMENT OF COMMERCE

Foreign-Trade Zones Board

15 CFR Part 400

[Docket No.: 131105932-3932-01]

RIN 0625-AA98

Import Administration; Change of Agency Name

AGENCY: Foreign-Trade Zones Board, International Trade Administration, Commerce.

ACTION: Final rule; nomenclature change.

SUMMARY: Effective October 1, 2013, the Department of Commerce (Department), through internal department organizational orders, changed the name of “Import Administration” to “Enforcement and Compliance.” Consistent with this action, this rule makes appropriate conforming changes in part 400 of title 15 of the Code of Federal Regulations.

The rule also sets forth a Savings Provision that preserves, under the new name, all actions taken under the name of Import Administration and provides that any references to Import Administration in any document or other communication shall be deemed to be references to Enforcement and Compliance.

DATES: This rule is effective on November 19, 2013.

FOR FURTHER INFORMATION CONTACT: Andrew McGilvray, Executive Secretary, Foreign-Trade Zones Board, Telephone: (202) 482-2862; Joanna Theiss, Attorney, Office of Chief Counsel for Trade Enforcement and Compliance, Telephone: (202) 482-5052.

SUPPLEMENTARY INFORMATION:

Background

This rule implements the decision by the Department of Commerce, through internal Department Organizational Order 10-3 (effective September 18, 2013) and Department Organizational Order 40-1, (effective September 19, 2013), to consolidate and reorganize certain Department organizational functions and revise the name of “Import Administration” to “Enforcement and Compliance.” The revision more accurately reflects the breadth of the agency's activities with respect to the enforcement of, and compliance with, U.S. trade laws. Consistent with the consolidation and name change, this rule makes a number of changes in part 400 of title 15 of the Code of Federal Regulations. Specifically, this rule changes all references to the “Assistant Secretary for Import Administration” wherever they appear in part 400 of title 15 to “Assistant Secretary for Enforcement and Compliance.”

Savings Provision

This rule shall constitute notice that all references to Import Administration in any documents, statements, or other communications, in any form or media, and whether made before, on, or after the effective date of this rule, shall be deemed to be references to Enforcement and Compliance. Any actions undertaken in the name of or on behalf of Import Administration, whether taken before, on, or after the effective date of this rule, shall be deemed to have been taken in the name of or on behalf of Enforcement and Compliance.

Rulemaking Requirements

1. This final rule has been determined to be exempt from review under Executive Order 12866.

2. This rule does not impose information collection and recordkeeping requirements. Consequently, it need not be reviewed by the Office of Management and Budget under the provisions of the Paperwork Reduction Act of 1995.

3. This rule does not contain policies with Federalism implications as this term is defined in Executive Order 13132.

4. The provisions of the Administrative Procedure Act (5 U.S.C. 553) requiring notice of proposed rulemaking, the opportunity for public participation, and a delay in effective date, are inapplicable because this rule involves a rule of agency organization, procedure, or practice. 5 U.S.C. 553(b)(B). Further, no other law requires that a notice of proposed rulemaking and an opportunity for public comment be given for this final rule. Because a notice of proposed rulemaking and an opportunity for public comment are not required to be given for this rule under 5 U.S.C. or by any other law, the analytical requirements of the Regulatory Flexibility Act (5 U.S.C. 601, et seq.) are not applicable. Accordingly, this rule is issued in final form.

List of Subjects in 15 CFR Part 400

Administrative practice and procedure, Customs duties and inspection, Foreign trade zones, Harbors, Imports, Reporting and recordkeeping requirements.

For the reasons set forth in the preamble, 15 CFR part 400 is amended as set forth below:

PART 400—REGULATIONS OF THE FOREIGN-TRADE ZONES BOARD

1. The authority citation for part 400 continues to read as follows:

Authority: Foreign-Trade Zones Act of June 18, 1934, as amended (Pub. L. 73-397, 48 Stat. 998-1003 (19 U.S.C. 81a-81u)).

2. In 15 CFR part 400, revise all references to the “Assistant Secretary for Import Administration” to read “Assistant Secretary for Enforcement and Compliance”.

Dated: November 8, 2013.
Paul Piquado,
Assistant Secretary of Commerce, for Enforcement and Compliance.

[FR Doc. 2013-27722 Filed 11-18-13; 8:45 am]

BILLING CODE 3510-DS-P